DEPARTMENT OF ENERGY

Federal Energy Regulatory Commission

[Docket No. RP04-41- 001]

Canyon Creek Compression Company; Notice of Tariff Filing

November 21, 2003.

Take notice that on November 14, 2003, Canyon Creek Compression Company (Canyon) tendered for filing to become part of its FERC Gas Tariff, Third Revised Volume No. 1, Substitute Tenth Revised Sheet No. 6 and Substitute First Revised Sheet No. 6A, to be effective December 1, 2003.

Canyon states that the purpose of this filing is to correct a computational error in the allocation of estimated costs between the firm reservation and usage rates made in its filing of October 31, 2003, in Docket No. RP04-41-000. Canyon notes that the error affects Substitute Tenth Revised Sheet No. 6 and Substitute First Revised Sheet No. 6A as well as Attachment A, pages 1 and 2.

Canyon states that copies of the filing are being mailed to its customers and state regulatory agencies.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E3-00397 Filed 11-28-03; 8:45 am]

BILLING CODE 6717-01-P